DEPARTMENT OF COMMERCE

National Oceanic and Atmospheric Administration

RIN 0648-XC325

Endangered Species; File No. 15809

AGENCY: National Marine Fisheries Service (NMFS), National Oceanic and Atmospheric Administration (NOAA), Commerce.

ACTION: Notice; receipt of application.

SUMMARY: Notice is hereby given that Paul Jobsis, Ph.D., University of the Virgin Islands, Department of Biology, 2 John Brewers Bay, St Thomas, VI 00802, has applied in due form for a permit to take green (Chelonia mydas) and hawksbill (Eretmochelys imbricata) sea turtles for the purpose of scientific research.

DATES: Written, telefaxed, or email comments must be received on or before December 10, 2012.

ADDRESSES: The application and related documents are available for review by selecting “Records Open for Public Comment” from the Features box on the Applications and Permits for Protected Species (APPS) home page, https://apps.nmfs.noaa.gov, and then selecting File No. 15809 from the list of available applications.

These documents are also available upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits and Conservation Division

• By email to NMFS.Pr1Comments@noaa.gov (include the File No. in the subject line of the email),

• By facsimile to (301) 713-0376, or

• At the address listed above.

Those individuals requesting a public hearing should submit a written request to the Chief, Permits and Conservation Division at the address listed above. The request should set forth the specific reasons why a hearing on this application would be appropriate.

FOR FURTHER INFORMATION CONTACT: Kristy Beard or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a 5-year permit to conduct research on green and hawksbill sea turtles around protected bays of St. Thomas and St. John, U.S. Virgin Islands. The purpose of the research is to assess the ecological movements of juvenile green and hawksbill sea turtles. Researchers would directly capture up to 40 adult, subadult, or juvenile green sea turtles using tangle nets and up to 40 juvenile and subadult hawksbill sea turtles by hand or using dip nets each year. No more than 40 total sea turtles (both species combined) would be captured in a year. The following procedures would be conducted on sea turtles: Count/survey, attach flipper and passive integrated transponder tags, attach acoustic transmitters using epoxy or a combination of wire and epoxy, measure, photograph, weigh, and sample tissue. Sea turtles would then be released within four hours of capture. Sea turtles might be unintentionally re-captured within a year.

Dated: November 5, 2012.
P. Michael Payne,
Chief, Permits and Conservation Division, Office of Protected Resources, National Marine Fisheries Service.

[FR Doc. 2012-27343 Filed 11-8-12; 8:45 am]

BILLING CODE 3510-22-P